DEPARTMENT OF HEALTH AND HUMAN SERVICES

National Institutes of Health

National Institute on Alcohol Abuse and Alcoholism; Notice of Meeting

Pursuant to section 1009 of the Federal Advisory Committee Act, as amended, notice is hereby given of a meeting of the National Advisory Council on Alcohol Abuse and Alcoholism.

The meeting will be open to the public as indicated below, with attendance limited to space available. Individuals who plan to attend and need special assistance, such as sign language interpretation or other reasonable accommodations, should notify the Contact Person listed below in advance of the meeting. The meeting can be accessed from the NIH Videocast at the following link: https://videocast.nih.gov/.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council on Alcohol Abuse and Alcoholism.

Date: February 5, 2026.

Closed: 11:00 a.m. to 12:30 p.m.

Agenda: To review and evaluate grant applications.

Open: 1:00 p.m. to 4:30 p.m.

Agenda: Presentations and other business of the Council.

Address: National Institutes of Health, National Institute on Alcohol Abuse and Alcoholism, 6700B Rockledge Drive, Bethesda, MD 20817, Virtual Meeting.

Contact Person: Philippe Marmillot, Ph.D., Director, Office of Extramural Activities, National Institute on Alcohol Abuse and Alcoholism, 6700B Rockledge Drive, Room 2118, National Institutes of Health, Bethesda, MD 20892, (301) 443-2861, marmillotp@mail.nih.gov.

The meeting identified below has been scheduled in the event that the Council is unable to complete all agenda items identified for the February 5, 2026, meeting. Information on the agenda items and/or the necessity to hold the meeting listed below will be posted on the Institute/Center homepage (link identified below).

Name of Committee: National Advisory Council on Alcohol Abuse and Alcoholism.

Date: March 19, 2026.

Closed: 11:00 a.m. to 12:30 p.m.

Agenda: To review and evaluate grant applications not completed at the February meeting.

Open: 1:00 p.m. to 4:30 p.m.

Agenda: Presentations and other business of the Council not completed at the February meeting.

Address: National Institutes of Health, National Institute on Alcohol Abuse and Alcoholism, 6700B Rockledge Drive, Bethesda, MD 20817, Virtual Meeting.

Contact Person: Philippe Marmillot, Ph.D., Director, Office of Extramural Activities, National Institute on Alcohol Abuse and Alcoholism, 6700B Rockledge Drive, Room 2118, National Institutes of Health, Bethesda, MD 20892, (301) 443-2861, marmillotp@mail.nih.gov.

Any interested person may file written comments with the committee by forwarding the statement to the Contact Person listed on this notice. The statement should include the name, address, telephone number and when applicable, the business or professional affiliation of the interested person.

Information is also available on the Institute's/Center's home page: http://www.niaaa.nih.gov/AboutNIAAA/AdvisoryCouncil/Pages/default.aspx, where an agenda and any additional information for the meeting will be posted when available.

Zieta M. Charles,
Program Analyst, Office of Federal Advisory Committee Policy.

[FR Doc. 2026-01030 Filed 1-20-26; 8:45 am]

BILLING CODE 4140-01-P